DEPARTMENT OF COMMERCE

National Oceanic and Atmospheric Administration

50 CFR Part 679

[Docket No. 150818742-5742-01]

RIN 0648-XE130

Fisheries of the Exclusive Economic Zone Off Alaska; Gulf of Alaska; 2016 and 2017 Harvest Specifications for Groundfish

AGENCY: National Marine Fisheries Service (NMFS), National Oceanic and Atmospheric Administration (NOAA), Commerce.

ACTION: Proposed rule; request for comments.

SUMMARY: NMFS proposes 2016 and 2017 harvest specifications, apportionments, and Pacific halibut prohibited species catch limits for the groundfish fishery of the Gulf of Alaska (GOA). This action is necessary to establish harvest limits for groundfish during the 2016 and 2017 fishing years and to accomplish the goals and objectives of the Fishery Management Plan for Groundfish of the Gulf of Alaska. The intended effect of this action is to conserve and manage the groundfish resources in the GOA in accordance with the Magnuson-Stevens Fishery Conservation and Management Act.

DATES: Comments must be received by January 8, 2016.

ADDRESSES: You may submit comments on this document, identified by NOAA-NMFS-2015-0110, by any one of the following methods:

• Electronic Submission: Submit all electronic public comments via the Federal e-Rulemaking Portal. Go to www.regulations.gov/#!docketDetail;D=NOAA-NMFS-2015-0110, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of the Alaska Groundfish Harvest Specifications Final Environmental Impact Statement (Final EIS), Record of Decision (ROD) for the Final EIS, Supplementary Information Report (SIR) to the Final EIS, and the Initial Regulatory Flexibility Analysis (IRFA) prepared for this action may be obtained from http://www.regulations.gov or from the Alaska Region Web site at http://alaskafisheries.noaa.gov. The final 2014 Stock Assessment and Fishery Evaluation (SAFE) report for the groundfish resources of the GOA, dated November 2014, is available from the North Pacific Fishery Management Council (Council) at 605 West 4th Avenue, Suite 306, Anchorage, AK 99501, phone 907-271-2809, or from the Council's Web site at http://www.npfmc.org. The draft 2015 SAFE report for the GOA will be available from the same source.

FOR FURTHER INFORMATION CONTACT: Obren Davis, 907-586-7228.

SUPPLEMENTARY INFORMATION: NMFS manages the GOA groundfish fisheries in the exclusive economic zone (EEZ) of the GOA under the Fishery Management Plan for Groundfish of the Gulf of Alaska (FMP). The Council prepared the FMP under the authority of the Magnuson-Stevens Fishery Conservation and Management Act (Magnuson-Stevens Act), 16 U.S.C. 1801, et seq. Regulations governing U.S. fisheries and implementing the FMP appear at 50 CFR parts 600, 679, and 680.

The FMP and its implementing regulations require NMFS, after consultation with the Council, to specify the total allowable catch (TAC) for each target species, the sum of which must be within the optimum yield (OY) range of 116,000 to 800,000 metric tons (mt). Section 679.20(c)(1) further requires NMFS to publish and solicit public comment on proposed annual TACs, Pacific halibut prohibited species catch (PSC) limits, and seasonal allowances of pollock and Pacific cod. The proposed harvest specifications in Tables 1 through 19 of this document satisfy these requirements. For 2016 and 2017, the sum of the proposed TAC amounts is 590,161 mt.

Under § 679.20(c)(3), NMFS will publish the final 2016 and 2017 harvest specifications after (1) considering comments received within the comment period (see DATES), (2) consulting with the Council at its December 2015 meeting, (3) considering information presented in the 2015 SIR that assesses the need to prepare a Supplemental EIS (see ADDRESSES) and, (4) considering information presented in the final 2015 SAFE report prepared for the 2016 and 2017 groundfish fisheries.

Other Actions Potentially Affecting the 2016 and 2017 Harvest Specifications

Removal of Pacific Cod Sideboard Limits for Hook-and-Line Catcher/Processors

At its June 2013 meeting, the Council took final action to establish a temporary process to permanently remove catch limits, known as sideboard limits, for Pacific cod that are applicable to certain hook-and-line catcher/processors (C/Ps) in the Central and Western GOA regulatory areas. This action is known as Amendment 45 to the Fishery Management Plan for Bering Sea/Aleutian Islands King and Tanner Crabs (Amendment 45). The final rule implementing the regulations associated with Amendment 45 was published on May 19, 2015 (80 FR 28539).

If all persons holding a license limitation program license with endorsements that allow directed fishing for Pacific cod as a hook-and-line C/P in the Central or Western GOA sign and submit to NMFS an affidavit affirming that all eligible participants in that regulatory area recommend removal of the Crab Rationalization Program GOA Pacific cod sideboard limit, then NMFS would not establish Crab Rationalization Program GOA Pacific cod sideboard limits for the hook-and-line C/P sector through the annual harvest specification process. All eligible fishery participants submitted affidavits as described above for the Western GOA and Central GOA; therefore NMFS will not establish 2016 and 2017 Pacific cod sideboard limits for hook-and-line C/Ps. These sideboard limits have been removed from Table 15 of this proposed rule.

Revise Maximum Retainable Amounts for Skates

In December 2014, the Council took final action to reduce the maximum retainable amount (MRA) for skates in the Gulf of Alaska (GOA). Per the Council's recommendation, NMFS developed and published a proposed rule to modify regulations that specify the MRA for skates in the GOA (80 FR 39734, July 10, 2015). An MRA is expressed as a percentage and is the maximum amount of a species closed to directed fishing (i.e., skate species) that may be retained on board a vessel relative to the retained amount of other groundfish species or halibut open for directed fishing (basis species). An MRA serves as a management tool to slow the harvest rates of incidental catch species and limit retention up to a maximum percentage of the amount of retained groundfish or halibut on board the vessel. NMFS has established a single MRA percentage for big skate (Raja binoculata), longnose skate (Raja rhina), and for all remaining skate species (Bathyraja spp.). The proposed rule would reduce the MRA for skates in the GOA from 20 percent to 5 percent. The reduced MRA would apply to all vessels directed fishing for groundfish or halibut in the GOA. NMFS anticipates that the proposed regulatory revisions associated with the skate MRA reduction will be effective in 2016.

Proposed Acceptable Biological Catch (ABC) and TAC Specifications

In October 2015, the Council, its Scientific and Statistical Committee (SSC), and its Advisory Panel (AP) reviewed the most recent biological and harvest information about the condition of groundfish stocks in the GOA. This information was compiled by the GOA Groundfish Plan Team (Plan Team) and presented in the final 2014 SAFE report for the GOA groundfish fisheries, dated November 2014 (see ADDRESSES). The SAFE report contains a review of the latest scientific analyses and estimates of each species' biomass and other biological parameters, as well as summaries of the available information on the GOA ecosystem and the economic condition of the groundfish fisheries off Alaska. From these data and analyses, the Plan Team estimates and the SSC sets an overfishing level (OFL) and ABC for each species or species group. The amounts proposed for the 2016 and 2017 OFLs and ABCs are based on the 2014 SAFE report. The AP and Council recommended that the proposed 2016 and 2017 TACs be set equal to proposed ABCs for all species and species groups, with the exception of the species categories further discussed below. The proposed OFLs, ABCs, and TACs could be changed in the final harvest specifications depending on the most recent scientific information contained in the final 2015 SAFE report. The draft stock assessments that will comprise, in part, the 2015 SAFE report are available at http://www.afsc.noaa.gov/REFM/stocks/plan_team/draft_assessments.htm.

In November 2015, the Plan Team updated the 2014 SAFE report to include new information collected during 2015, such as NMFS stock surveys, revised stock assessments, and catch data. The Plan Team compiled this information and produced the draft 2015 SAFE report for presentation at the December 2015 Council meeting. At that meeting, the Council will consider information in the draft 2015 SAFE report, recommendations from the November 2015 Plan Team meeting and December 2015 SSC and AP meetings, public testimony, and relevant written public comments in making its recommendations for the final 2016 and 2017 harvest specifications. Pursuant to Section 3.2.3.4.1 of the FMP, the Council could recommend adjusting the TACs if “warranted on the basis of bycatch considerations, management uncertainty, or socioeconomic considerations; or if required in order to cause the sum of the TACs to fall within the OY range.”

In previous years, the OFLs and ABCs that have had the most significant changes (relative to the amount of assessed tonnage of fish) from the proposed to the final harvest specifications have been for OFLs and ABCs that are based on the most recent NMFS stock surveys. These surveys provide updated estimates of stock biomass and spatial distribution, and changes to the models used for producing stock assessments. NMFS scientists presented updated and new survey results, changes to assessment models, and accompanying stock estimates at the September 2015 Plan Team meeting, and the SSC reviewed this information at the October 2015 Council meeting. The species with possible model changes are Pacific cod, rex sole, and rock sole. In November 2015, the Plan Team considered updated stock assessments for groundfish, which are included in the draft 2015 SAFE report.

If the draft 2015 SAFE report indicates that the stock biomass trend is increasing for a species, then the final 2016 and 2017 harvest specifications for that species may reflect an increase from the proposed harvest specifications. Conversely, if the draft 2015 SAFE report indicates that the stock biomass trend is decreasing for a species, then the final 2016 and 2017 harvest specifications may reflect a decrease from the proposed harvest specifications.

The proposed 2016 and 2017 OFLs, ABCs, and TACs are based on the best available biological and socioeconomic information, including projected biomass trends, information on assumed distribution of stock biomass, and revised methods used to calculate stock biomass. The FMP specifies the formulas, or tiers, to be used to compute OFLs and ABCs. The formulas applicable to a particular stock or stock complex are determined by the level of reliable information available to the fisheries scientists. This information is categorized into a successive series of six tiers to define OFL and ABC amounts, with Tier 1 representing the highest level of information quality available and Tier 6 representing the lowest level of information quality available. The Plan Team used the FMP tier structure to calculate OFLs and ABCs for each groundfish species. The SSC adopted the proposed 2016 and 2017 OFLs and ABCs recommended by the Plan Team for all groundfish species. The Council adopted the SSC's OFL and ABC recommendations and the AP's TAC recommendations. These amounts are unchanged from the final 2016 harvest specifications published in the Federal Register on February 25, 2015 (80 FR 10250).

Specification and Apportionment of TAC Amounts

The Council recommended proposed 2016 and 2017 TACs that are equal to proposed ABCs for all species and species groups, with the exceptions of shallow-water flatfish in the Western GOA, arrowtooth flounder, flathead sole in the Western and Central GOA, “other rockfish” in Southeast Outside (SEO) District, Atka mackerel, and Pacific cod. The shallow-water flatfish, arrowtooth flounder, and flathead sole TACs are set to allow for harvest opportunities while conserving the halibut PSC limit for use in other fisheries. The “other rockfish” TAC is set to reduce the potential amount of discards in the SEO District. The Atka mackerel TAC is set to accommodate incidental catch amounts of this species in other directed fisheries.

The proposed 2016 and 2017 Pacific cod TACs are set to accommodate the State's guideline harvest levels (GHLs) for Pacific cod in State waters in the Western and Central Regulatory Areas, as well as in Prince William Sound (PWS). The Plan Team, SSC, AP, and Council recommended that the sum of all State and Federal water Pacific cod removals from the GOA not exceed ABC recommendations. Accordingly, the Council reduced the proposed 2016 and 2017 Pacific cod TACs in the Eastern, Central, and Western Regulatory Areas to account for State GHLs. Therefore, the proposed 2016 and 2017 Pacific cod TACs are less than the proposed ABCs by the following amounts: (1) Eastern GOA, 707 mt; (2) Central GOA, 15,330 mt; and (3) Western GOA, 11,611 mt. These amounts reflect the sum of the State's 2016 and 2017 GHLs in these areas, which are 25 percent of the Eastern and Central and 30 percent of the Western GOA proposed ABCs.

The ABC for the pollock stock in the combined Western, Central, and West Yakutat Regulatory Areas (W/C/WYK) includes the amount for the GHL established by the State for the PWS pollock fishery. The Plan Team, SSC, AP, and Council recommended that the sum of all State and Federal water pollock removals from the GOA not exceed ABC recommendations. Based on genetic studies, fisheries scientists believe that the pollock in PWS is not a separate stock from the combined W/C/WYK population. Since 1996, the Plan Team has had a protocol of recommending that the GHL amount be deducted from the GOA-wide ABC. For 2016 and 2017, the SSC recommended and the Council approved the W/C/WYK pollock ABC including the amount to account for the State's PWS GHL. At the November 2015 Plan Team meeting, State fisheries managers recommended setting the PWS GHL at 2.5 percent of the annual W/C/WYK pollock ABC. Accordingly, the Council recommended adopting a W/C/WYK pollock ABC that has been reduced to account for the State's PWS GHL. For 2016 and 2017, the proposed PWS pollock GHL is 6,271 mt, as recommended by State fisheries managers. The proposed 2016 and 2017 ABC is 263,449 mt, and the proposed TAC is 257,178 mt.

The Council has adopted the SSC's 2014 recommendation to revise the terminology used when apportioning pollock in the W/C/WYK. The SSC recommended describing apportionments of pollock to the W/C/WYK as “apportionments of annual catch limit (ACLs)” rather than “ABCs.” The SSC noted that describing subarea apportionments as “apportionments of the ACL” more accurately reflects that such apportionments address management, rather than biological or conservation, concerns. In addition, apportionments of the ACL in this manner allow NMFS to balance any transfer of TAC from one area to another pursuant to § 679.20(a)(5)(iv)(B) to ensure that the area-wide ACL and ABC are not exceeded. The SSC noted that this terminology change is acceptable for pollock in the W/C/WYK only. Further information about the rationale to adopt this terminology is in the final 2015 and 2016 harvest specifications for GOA groundfish (80 FR 10250, February 25, 2015).

NMFS' proposed apportionments for groundfish species are based on the distribution of biomass among the regulatory areas under which NMFS manages the species. Additional regulations govern the apportionment of Pacific cod, pollock, and sablefish. Additional detail on these apportionments are described below, and briefly summarized here.

NMFS proposes pollock TACs in the W/C/WYK and the SEO District of the GOA (see Table 1). NMFS also proposes seasonal apportionment of the annual pollock TAC in the Western and Central Regulatory Areas of the GOA among Statistical Areas 610, 620, and 630 divided equally among each of the following four seasons: the A season (January 20 through March 10), the B season (March 10 through May 31), the C season (August 25 through October 1), and the D season (October 1 through November 1) (§ 679.23(d)(2)(i) through (iv), and § 679.20(a)(5)(iv)(A) and (B)). Additional detail is provided below; Table 2 lists these amounts.

NMFS proposes Pacific cod TACs in the Western, Central, and Eastern GOA (see Table 1). NMFS also proposes seasonal apportionment of the Pacific cod TACs in the Western and Central Regulatory Areas. Sixty percent of the annual TAC is apportioned to the A season for hook-and-line, pot, or jig gear from January 1 through June 10, and for trawl gear from January 20 through June 10. Forty percent of the annual TAC is apportioned to the B season for jig gear from June 10 through December 31, for hook-and-line or pot gear from September 1 through December 31, and for trawl gear from September 1 through November 1 (§§ 679.23(d)(3) and 679.20(a)(12)). The Western and Central GOA Pacific cod gear and sector apportionments are discussed in detail below; Table 3 lists these amounts.

The Council's recommendation for sablefish area apportionments takes into account the prohibition on the use of trawl gear in the SEO District of the Eastern Regulatory Area and makes available 5 percent of the combined Eastern Regulatory Area TACs to trawl gear for use as incidental catch in other directed groundfish fisheries in the WYK District (§ 679.20(a)(4)(i)). Additional detail is provided below; Tables 4 and 5 list these amounts.

The sum of the proposed TACs for all GOA groundfish is 590,161 mt for 2016 and 2017, which is within the OY range specified by the FMP. The sums of the proposed 2016 and 2017 TACs are higher than the final 2015 TACs currently specified for the GOA groundfish fisheries (80 FR 10250, February 25, 2015). The proposed 2016 and 2017 TACs for pollock, Pacific ocean perch, and rougheye rockfish are higher than the final 2015 TACs for these species. The proposed 2016 and 2017 TACs for sablefish, shallow-water flatfish, deep-water flatfish, rex sole, flathead sole, northern rockfish, and dusky rockfish are lower than the final 2015 TACs for these species. The proposed 2016 and 2017 TACs for the remaining species are equal to the final 2015 TACs.

For 2016 and 2017, the Council recommends and NMFS proposes the OFLs, ABCs, and TACs listed in Table 1. The proposed ABCs reflect harvest amounts that are less than the specified overfishing levels. Table 1 lists the proposed 2016 and 2017 OFLs, ABCs, TACs, and area apportionments of groundfish in the GOA. These amounts are consistent with the biological condition of groundfish stocks as described in the 2014 SAFE report, and adjusted for other biological and socioeconomic considerations, including maintaining the total TAC within the required OY range. These proposed amounts and apportionments by area, season, and sector are subject to change pending consideration of the draft 2015 SAFE report and the Council's recommendations for the final 2016 and 2017 harvest specifications during its December 2015 meeting.

Table 1—Proposed 2016 and 2017 ABCs, TACs, and OFLs of Groundfish for the Western/Central/West Yakutat, Western, Central, and Eastern Regulatory Areas, and in the West Yakutat, Southeast Outside, and Gulfwide Districts of the Gulf of Alaska
[Values are rounded to the nearest metric ton]
Species | Area 1 | OFL | ABC | TAC 2
Pollock 2 | Shumagin (610) | n/a | 41,472 | 41,472
| Chirikof (620) | n/a | 127,936 | 127,936
| Kodiak (630) | n/a | 68,958 | 68,958
| WYK (640) | n/a | 6,187 | 6,187
| W/C/WYK (subtotal) | 321,067 | 250,824 | 244,553
| SEO (650) | 16,833 | 12,625 | 12,625
| Total | 337,900 | 263,449 | 257,178
Pacific cod 3 | W | n/a | 38,702 | 27,091
| C | n/a | 61,320 | 45,990
| E | n/a | 2,828 | 2,121
| Total | 133,100 | 102,850 | 75,202
Sablefish 4 | W | n/a | 1,338 | 1,338
| C | n/a | 4,232 | 4,232
| WYK | n/a | 1,552 | 1,552
| SEO | n/a | 2,436 | 2,436
| E (WYK and SEO) (subtotal) | n/a | 3,988 | 3,988
| Total | 11,293 | 9,558 | 9,558
Shallow-water flatfish 5 | W | n/a | 19,577 | 13,250
| C | n/a | 17,114 | 17,114
| WYK | n/a | 1,959 | 1,959
| SEO | n/a | 554 | 554
| Total | 48,407 | 39,205 | 32,877
Deep-water flatfish 6 | W | n/a | 299 | 299
| C | n/a | 3,645 | 3,645
| WYK | n/a | 5,409 | 5,409
| SEO | n/a | 3,824 | 3,824
| Total | 15,803 | 13,177 | 13,177
Rex sole | W | n/a | 1,234 | 1,234
| C | n/a | 5,707 | 5,707
| WYK | n/a | 758 | 758
| SEO | n/a | 1,280 | 1,280
| Total | 11,733 | 8,979 | 8,979
Arrowtooth flounder | W | n/a | 29,545 | 14,500
| C | n/a | 109,692 | 75,000
| WYK | n/a | 35,328 | 6,900
| SEO | n/a | 10,787 | 6,900
| Total | 217,522 | 185,352 | 103,300
Flathead sole | W | n/a | 12,776 | 8,650
| C | n/a | 24,893 | 15,400
| WYK | n/a | 3,538 | 3,538
| SEO | n/a | 171 | 171
| Total | 50,818 | 41,378 | 27,759
Pacific ocean perch 7 | W | n/a | 2,358 | 2,358
| C | n/a | 16,184 | 16,184
| WYK | n/a | 2,055 | 2,055
| W/C/WYK | 23,876 | 20,597 | 20,597
| SEO | 2,513 | 839 | 839
| Total | 24,849 | 21,436 | 21,436
Northern rockfish 8 | W | n/a | 1,158 | 1,158
| C | n/a | 3,563 | 3,563
| E | n/a
| Total | 5,631 | 4,721 | 4,721
Shortraker rockfish 9 | W | n/a | 92 | 92
| C | n/a | 397 | 397
| E | n/a | 834 | 834
| Total | 1,764 | 1,323 | 1,323
Dusky rockfish 10 | W | n/a | 273 | 273
| C | n/a | 3,077 | 3,077
| WYK | n/a | 1,187 | 1,187
| SEO | n/a | 174 | 174
| Total | 5,759 | 4,711 | 4,711
Rougheye and blackspotted rockfish 11 | W | n/a | 117 | 117
| C | n/a | 643 | 643
| E | n/a | 382 | 382
| Total | 1,370 | 1,142 | 1,142
Demersal shelf rockfish 12 | SEO | 361 | 225 | 225
Thornyhead rockfish 13 | W | n/a | 235 | 235
| C | n/a | 875 | 875
| E | n/a | 731 | 731
| Total | 2,454 | 1,841 | 1,841
Other rockfish 14 15 | W/C combined | n/a | 1,031 | 1,031
| WYK | n/a | 580 | 580
| SEO | n/a | 2,469 | 200
| Total | 5,347 | 4,080 | 1,811
Atka mackerel | GW | 6,200 | 4,700 | 2,000
Big skates 16 | W | n/a | 731 | 731
| C | n/a | 1,257 | 1,257
| E | n/a | 1,267 | 1,267
| Total | 4,340 | 3,255 | 3,255
Longnose skates 17 | W | n/a | 152 | 152
| C | n/a | 2,090 | 2,090
| E | n/a | 976 | 976
| Total | 4,291 | 3,218 | 3,218
Other skates 18 | GW | 2,980 | 2,235 | 2,235
Sculpins | GW | 7,448 | 5,569 | 5,569
Sharks | GW | 7,986 | 5,989 | 5,989
Squids | GW | 1,530 | 1,148 | 1,148
Octopuses | GW | 2,009 | 1,507 | 1,507
Total |  | 910,895 | 731,049 | 590,161
1 Regulatory areas and districts are defined at § 679.2. (W=Western Gulf of Alaska; C=Central Gulf of Alaska; E=Eastern Gulf of Alaska; WYK=West Yakutat District; SEO=Southeast Outside District; GW=Gulf-wide).
2 The combined pollock ABC for the Western, Central, and West Yakutat areas is apportioned in the Western/Central Regulatory Areas among four statistical areas. These apportionments are considered subarea ACLs, rather than ABCs, for specification and reapportionment purposes. Table 2 lists the proposed 2016 and 2017 seasonal apportionments. In the West Yakutat and Southeast Outside Districts of the Eastern Regulatory Area, pollock is not divided into seasonal allowances.
3 Section 679.20(a)(12)(i) requires the allocation of the Pacific cod TACs in the Western and Central Regulatory Areas of the GOA among gear and operational sectors. The annual Pacific cod TAC is apportioned among various sectors 60 percent to the A season and 40 percent to the B season in the Western and Central Regulatory Areas of the GOA. In the Eastern Regulatory Area of the GOA, Pacific cod is allocated 90 percent for processing by the inshore component and 10 percent for processing by the offshore component. Table 3 lists the proposed 2016 and 2017 Pacific cod seasonal apportionments.
4 Sablefish is allocated to hook-and-line and trawl gear in 2016 and trawl gear in 2017. Tables 4 and 5 list the proposed 2016 and 2017 allocations of sablefish TACs.
5 “Shallow-water flatfish” means flatfish not including “deep-water flatfish,” flathead sole, rex sole, or arrowtooth flounder.
6 “Deep-water flatfish” means Dover sole, Greenland turbot, Kamchatka flounder, and deep-sea sole.
7 “Pacific ocean perch” means Sebastes alutus.
8 “Northern rockfish” means Sebastes polyspinous. For management purposes the 3 mt apportionment of ABC to the WYK District of the Eastern Gulf of Alaska has been included in the other rockfish (slope rockfish) species group.
9 “Shortraker rockfish” means Sebastes borealis.
10 “Dusky rockfish” means Sebastes variabilis.
11 “Rougheye rockfish” means Sebastes aleutianus (rougheye) and Sebastes melanostictus (blackspotted).
12 “Demersal shelf rockfish” means Sebastes pinniger (canary), S. nebulosus (china), S. caurinus (copper), S. maliger (quillback), S. helvomaculatus (rosethorn), S. nigrocinctus (tiger), and S. ruberrimus (yelloweye).
13 “Thornyhead rockfish” means Sebastes species.
14 “Other rockfish (slope rockfish)” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergray), S. diploproa (splitnose), S. saxicola (stripetail), S. miniatus (vermilion), S. reedi (yellowmouth), S. entomelas (widow), and S. flavidus (yellowtail). In the Eastern GOA only, “other rockfish” also includes northern rockfish (S. polyspinous).
15 “Other rockfish” in the Western and Central Regulatory Areas and in the West Yakutat District means all rockfish species included in the “other rockfish” and demersal shelf rockfish categories.
16 “Big skates” means Raja binoculata.
17 “Longnose skates” means Raja rhina.
18 “Other skates” means Bathyraja spp.

Proposed Apportionment of Reserves

Section 679.20(b)(2) requires NMFS to set aside 20 percent of each TAC for pollock, Pacific cod, flatfish, sculpins, sharks, squids, and octopuses in reserves for possible apportionment at a later date during the fishing year. In 2015, NMFS apportioned all of the reserves in the final harvest specifications. For 2016 and 2017, NMFS proposes reapportionment of all the reserves for pollock, Pacific cod, flatfish, sculpins, sharks, squids, and octopuses in anticipation of the projected annual catch of these species. The TACs in Table 1 reflect the apportionment of reserve amounts for these species and species groups. Each proposed TAC for the above mentioned species categories contains the full TAC recommended by the Council, since none of the relevant species and species groups' TACs contributed to a reserve that could be used for future reapportionments.

Proposed Apportionments of Pollock TAC Among Seasons and Regulatory Areas, and Allocations for Processing by Inshore and Offshore Components

In the GOA, pollock is apportioned by season and area, and is further allocated for processing by inshore and offshore components. Pursuant to § 679.20(a)(5)(iv)(B), the annual pollock TAC specified for the Western and Central Regulatory Areas of the GOA is apportioned into four equal seasonal allowances of 25 percent. As established by § 679.23(d)(2)(i) through (iv), the A, B, C, and D season allowances are available from January 20 through March 10, March 10 through May 31, August 25 through October 1, and October 1 through November 1, respectively.

Pollock TACs in the Western and Central Regulatory Areas of the GOA are apportioned among Statistical Areas 610, 620, and 630, pursuant to § 679.20(a)(5)(iv)(A). In the A and B seasons, the apportionments have historically been based on the proportional distribution of pollock biomass based on the four most recent NMFS winter surveys. In the C and D seasons, the apportionments are in proportion to the distribution of pollock biomass based on the four most recent NMFS summer surveys. However, for 2016 and 2017, the Council recommends, and NMFS proposes, averaging the winter and summer distribution of pollock in the Central Regulatory Area for the A season instead of using the distribution based on only the winter surveys. This combination of summer and winter distribution has been used for area apportionments since 2002. The average is intended to reflect the best available information about migration patterns, distribution of pollock, and the performance of the fishery in the area during the A season. For the A season, the apportionment is based on the proposed adjusted estimate of the relative distribution of pollock biomass of approximately 8 percent, 67 percent, and 25 percent in Statistical Areas 610, 620, and 630, respectively. For the B season, the apportionment is based on the relative distribution of pollock biomass of approximately 8 percent, 83 percent, and 9 percent in Statistical Areas 610, 620, and 630, respectively. For the C and D seasons, the apportionment is based on the relative distribution of pollock biomass of approximately 27 percent, 32 percent, and 41 percent in Statistical Areas 610, 620, and 630, respectively.

Within any fishing year, the amount by which a seasonal allowance is underharvested or overharvested may be added to, or subtracted from, subsequent seasonal allowances in a manner to be determined by the Regional Administrator (§ 679.20(a)(5)(iv)(B)). The rollover amount is limited to 20 percent of the unharvested seasonal apportionment for the statistical area. Any unharvested pollock above the 20-percent limit could be further distributed to the other statistical areas, in proportion to the estimated biomass in the subsequent season in those statistical areas (§ 679.20(a)(5)(iv)(B)). The proposed 2016 and 2017 pollock TACs in the WYK District of 6,187 mt and SEO District of 12,625 mt are not allocated by season.

Section 679.20(a)(6)(i) requires the allocation of 100 percent of the pollock apportionments in all regulatory areas and all seasonal allowances to vessels catching pollock for processing by the inshore component after subtraction of pollock amounts projected by the Regional Administrator to be caught by, or delivered to, the offshore component incidental to directed fishing for other groundfish species. Thus, the amount of pollock available for harvest by vessels harvesting pollock for processing by the offshore component is that amount that will be taken as incidental catch during directed fishing for groundfish species other than pollock, up to the maximum retainable amounts allowed under § 679.20(e) and (f). At this time, these incidental catch amounts of pollock are unknown and will be determined as fishing activity occurs during the fishing year by the offshore component.

Table 2 lists the proposed 2016 and 2017 seasonal biomass distribution of pollock in the Western and Central Regulatory Areas, area apportionments, and seasonal allowances. The amounts of pollock for processing by the inshore and offshore components are not shown.

Table 2—Proposed 2016 and 2017 Distribution of Pollock in the Central and Western Regulatory Areas of the Gulf of Alaska; Seasonal Biomass Distribution, Area Apportionments; and Seasonal Allowances of Annual TAC ¹
[Values are rounded to the nearest metric ton]
Season ² | Shumagin (Area 610) |  | Chirikof (Area 620) |  | Kodiak (Area 630) |  | Total
A (Jan 20-Mar 10) | 4,760 | (7.99%) | 39,992 | (67.11%) | 14,839 | (24.90%) | 59,592
B (Mar 10-May 31) | 4,760 | (7.99%) | 49,586 | (83.21%) | 5,245 | (8.80%) | 59,592
C (Aug 25-Oct 1) | 15,975 | (26.81%) | 19,179 | (32.18%) | 24,437 | (41.01%) | 59,592
D (Oct 1-Nov 1) | 15,975 | (26.81%) | 19,179 | (32.18%) | 24,437 | (41.01%) | 59,592
Annual Total ³ | 41,472 |  | 127,936 |  | 68,958 |  | 238,366
¹ Area apportionments and seasonal allowances may not total precisely due to rounding.
² As established by § 679.23(d)(2)(i) through (iv), the A, B, C, and D season allowances are available from January 20 through March 10, March 10 through May 31, August 25 through October 1, and October 1 through November 1, respectively. The amounts of pollock for processing by the inshore and offshore components are not shown in this table.
³ The West Yakutat and Southeast Outside District pollock TACs are not allocated by season and are not included in the total pollock TACs shown in this table.

Proposed Annual and Seasonal Apportionments of Pacific Cod TAC

Pursuant to § 679.20(a)(12)(i), NMFS proposes allocations for the 2016 and 2017 Pacific cod TACs in the Western and Central Regulatory Areas of the GOA among gear and operational sectors. Pursuant § 679.20(a)(6)(ii) NMFS proposes the allocation of the Pacific cod TAC between the inshore and offshore components in the Eastern Regulatory Area of the GOA. In the Central GOA, the Pacific cod TAC is apportioned seasonally first to vessels using jig gear, and then among catcher vessels (CVs) less than 50 feet in length overall using hook-and-line gear, CVs equal to or greater than 50 feet in length overall using hook-and-line gear, C/Ps using hook-and-line gear, CVs using trawl gear, C/Ps using trawl gear, and vessels using pot gear. In the Western GOA, the Pacific cod TAC is apportioned seasonally first to vessels using jig gear, and then among CVs using hook-and-line gear, C/Ps using hook-and-line gear, CVs using trawl gear, and vessels using pot gear. The overall seasonal apportionments in the Western and Central GOA are 60 percent of the annual TAC to the A season and 40 percent of the annual TAC to the B season.

Under § 679.20(a)(12)(ii), any overage or underage of the Pacific cod allowance from the A season will be subtracted from, or added to, the subsequent B season allowance. In addition, any portion of the hook-and-line, trawl, pot, or jig sector allocations that is determined by NMFS as likely to go unharvested by a sector may be reapportioned to other sectors for harvest during the remainder of the fishery year.

Pursuant to § 679.20(a)(12)(i)(A) and (B), a portion of the annual Pacific cod TACs in the Western and Central GOA will be allocated to vessels with a federal fisheries permit that use jig gear before TAC is apportioned among other non-jig sectors. In accordance with the FMP, the annual jig sector allocations may increase up to 6 percent of the annual Western and Central GOA Pacific cod TACs depending on the annual performance of the jig sector. If such allocation increases are not harvested by the jig sector, then the annual jig sector allocations may subsequently be reduced (See Table 1 of Amendment 83 to the FMP for a detailed discussion of the jig sector allocation process (76 FR 74670, December 1, 2011)). NMFS proposes that the jig sector receive 3.5 percent of the annual Pacific cod TAC in the Western GOA. This includes a base allocation of 1.5 percent and an additional 2.0 percent because this sector harvested greater than 90 percent of its initial 2012 and 2014 allocations in the Western GOA. NMFS also proposes that the jig sector would receive 1.0 percent of the annual Pacific cod TAC in the Central GOA. This includes a base allocation of 1.0 percent and no additional performance increase. However, allocation increases to the jig sector are established for a minimum of 2 years. NMFS will re-evaluate the annual 2014 and 2015 harvest performance of each jig sector when the 2015 fishing year is complete to determine whether to change the jig sector allocations proposed by this action in conjunction with the final 2016 and 2017 harvest specifications.

Based on the current catch (through November 2015) by the Western GOA jig sector, the Pacific cod allocation percentage to this sector would not change in 2016. Similarly, the current catch by the Central GOA jig sector indicates that this sector's Pacific cod allocation percentage would not change in 2016. The jig sector allocations are further apportioned between the A (60 percent) and B (40 percent) seasons.

Table 3 lists the seasonal apportionments and allocations of the proposed 2016 and 2017 Pacific cod TACs.

Table 3—Proposed 2016 and 2017 Seasonal Apportionments and Allocations of Pacific Cod Total Allowable Catch Amounts in the GOA; Allocations in the Western GOA and Central GOA Sectors, and the Eastern GOA for Processing by the Inshore and Offshore Components
[Values are rounded to the nearest metric ton]
Regulatory area and sector | Annual allocation (mt) | A Season: Sector percentage of annual non-jig TAC | A Season: Seasonal allowances (mt) | B Season: Sector percentage of annual non-jig TAC | B Season: Seasonal allowances (mt)
Western GOA:
Jig (3.5% of TAC) | 948 | N/A | 569 | N/A | 379
Hook-and-line CV | 366 | 0.70 | 183 | 0.70 | 183
Hook-and-line C/P | 5,176 | 10.90 | 2,850 | 8.90 | 2,327
Trawl CV | 10,039 | 27.70 | 7,242 | 10.70 | 2,797
Trawl C/P | 627 | 0.90 | 235 | 1.50 | 392
Pot CV and Pot C/P | 9,934 | 19.80 | 5,176 | 18.20 | 4,758
Total | 27,091 | 60.00 | 16,255 | 40.00 | 10,837
Central GOA:
Jig (1.0% of TAC) | 460 | N/A | 276 | N/A | 184
Hook-and-line <50 CV | 6,648 | 9.32 | 4,241 | 5.29 | 2,407
Hook-and-line ≥50 CV | 3,054 | 5.61 | 2,554 | 1.10 | 500
Hook-and-line C/P | 2,324 | 4.11 | 1,870 | 1.00 | 454
Trawl CV | 18,933 | 21.13 | 9,623 | 20.45 | 9,310
Trawl C/P | 1,911 | 2.00 | 912 | 2.19 | 999
Pot CV and Pot C/P | 12,660 | 17.83 | 8,118 | 9.97 | 4,542
Total | 45,990 | 60.00 | 27,594 | 40.00 | 18,396
|  | Inshore (90% of Annual TAC) |  | Offshore (10% of Annual TAC)
Eastern GOA | 2,121 | 1,909 |  | 212

Proposed Allocations of the Sablefish TACs Amounts to Vessels Using Hook-and-Line and Trawl Gear

Sections 679.20(a)(4)(i) and (ii) require allocations of sablefish TACs for each of the regulatory areas and districts to hook-and-line and trawl gear. In the Western and Central Regulatory Areas, 80 percent of each TAC is allocated to hook-and-line gear, and 20 percent of each TAC is allocated to trawl gear. In the Eastern Regulatory Area, 95 percent of the TAC is allocated to hook-and-line gear and 5 percent is allocated to trawl gear. The trawl gear allocation in the Eastern GOA may only be used to support incidental catch of sablefish in directed fisheries for other target species (§ 679.20(a)(4)(i)).

In recognition of the prohibition against trawl gear in the SEO District of the Eastern Regulatory Area, the Council recommended and NMFS proposes the allocation of 5 percent of the combined Eastern Regulatory Area sablefish TAC to trawl gear in the WYK District, making the remainder of the WYK sablefish TAC available to vessels using hook-and-line gear. NMFS proposes to allocate 100 percent of the sablefish TAC in the SEO District to vessels using hook-and-line gear. This action results in a proposed 2016 allocation of 199 mt to trawl gear and 1,353 mt to hook-and-line gear in the WYK District, and 2,436 mt to hook-and-line gear in the SEO District. Table 4 lists the allocations of the proposed 2016 sablefish TACs to hook-and-line and trawl gear. Table 5 lists the allocations of the proposed 2017 sablefish TACs to trawl gear.

The Council recommended that the hook-and-line sablefish TAC be established annually to ensure that the sablefish Individual Fishery Quota (IFQ) fishery is conducted concurrent with the halibut IFQ fishery and is based on recent survey information. The Council also recommended that only the trawl sablefish TAC be established for 2 years so that retention of incidental catch of sablefish by trawl gear could commence in January in the second year of the groundfish harvest specifications. Since there is an annual assessment for sablefish and the final harvest specifications are expected to be published before the IFQ season begins (typically, in early March), the Council recommended that the sablefish TAC be set on an annual basis, rather than for 2 years, so that the best available scientific information could be considered in establishing the ABCs and TACs. With the exception of the trawl allocations that are provided to the Rockfish Program cooperatives (see Table 28c to part 679), directed fishing for sablefish with trawl gear is closed during the fishing year. Also, fishing for groundfish with trawl gear is prohibited prior to January 20. Therefore, it is not likely that the sablefish allocation to trawl gear would be reached before the effective date of the final 2016 and 2017 harvest specifications.

Table 4—Proposed 2016 Sablefish Total Allowable Catch (TAC) in the Gulf of Alaska and Allocations to Hook-and-Line and Trawl Gear
[Values are rounded to the nearest metric ton]
Area/district | TAC | Hook-and-line allocation | Trawl allocation
Western | 1,338 | 1,070 | 268
Central | 4,232 | 3,386 | 846
West Yakutat ¹ | 1,552 | 1,353 | 199
Southeast Outside | 2,436 | 2,436 | 0
Total | 9,558 | 8,245 | 1,313
¹ The proposed trawl allocation is based on allocating 5 percent of the combined Eastern Regulatory Area (West Yakutat and Southeast Outside Districts combined) sablefish TAC to trawl gear in the West Yakutat District.

Table 5—Proposed 2017 Sablefish Total Allowable Catch (TAC) in the Gulf of Alaska and Allocation to Trawl Gear ¹
[Values are rounded to the nearest metric ton]
Area/district | TAC | Hook-and-line allocation | Trawl allocation
Western | 1,338 | n/a | 268
Central | 4,232 | n/a | 846
West Yakutat ² | 1,552 | n/a | 199
Southeast Outside | 2,436 | n/a | 0
Total | 9,558 | n/a | 1,313
¹ The Council recommended that harvest specifications for the hook-and-line gear sablefish Individual Fishing Quota fisheries be limited to 1 year.
² The proposed trawl allocation is based on allocating 5 percent of the combined Eastern Regulatory Area (West Yakutat and Southeast Outside Districts combined) sablefish TAC to trawl gear in the West Yakutat District.

Proposed Apportionments to the Rockfish Program

These proposed 2016 and 2017 harvest specifications for the GOA include the fishery cooperative allocations and sideboard limitations established by the Rockfish Program. Program participants are primarily trawl CVs and trawl C/Ps, with limited participation by vessels using longline gear. The Rockfish Program assigns quota share and cooperative quota to participants for primary and secondary species, allows a participant holding a license limitation program (LLP) license with rockfish quota share to form a rockfish cooperative with other persons, and allows holders of C/P LLP licenses to opt out of the fishery. The Rockfish Program also has an entry level fishery for rockfish primary species for vessels using longline gear.

Under the Rockfish Program, rockfish primary species (Pacific ocean perch, northern rockfish, and dusky rockfish) in the Central GOA are allocated to participants after deducting for incidental catch needs in other directed groundfish fisheries. Participants in the Rockfish Program also receive a portion of the Central GOA TAC of specific secondary species (Pacific cod, rougheye rockfish, sablefish, shortraker rockfish, and thornyhead rockfish).

Additionally, the Rockfish Program establishes sideboard limits to restrict the ability of harvesters operating under the Rockfish Program to increase their participation in other, non-Rockfish Program fisheries. Besides groundfish species, the Rockfish Program allocates a portion of the halibut PSC limit (191 mt) from the third season deep-water species fishery allowance for the GOA trawl fisheries to Rockfish Program participants. (Rockfish Program sideboards and halibut PSC limits are discussed below.)

Section 679.81(a)(2)(ii) requires allocations of 5 mt of Pacific ocean perch, 5 mt of northern rockfish, and 30 mt of dusky rockfish to the entry level longline fishery in 2016 and 2017. The allocation for the entry level longline fishery would increase incrementally each year if the catch exceeds 90 percent of the allocation of a species. The incremental increase in the allocation would continue each year until it is the maximum percentage of the TAC for that species. In 2015, the catch did not exceed 90 percent of any allocated rockfish species. Therefore, NMFS is not proposing an increase to the entry level longline fishery 2016 and 2017 allocations in the Central GOA. The remainder of the TACs for the rockfish primary species would be allocated to the CV and C/P cooperatives. Table 6 lists the allocations of the proposed 2016 and 2017 TACs for each rockfish primary species to the entry level longline fishery, the incremental increase for future years, and the maximum percent of the TAC for the entry level longline fishery.

Table 6—Proposed 2016 and 2017 Allocations of Rockfish Primary Species to the Entry Level Longline Fishery in the Central Gulf of Alaska
Rockfish primary species | 2016 and 2017 allocations | Incremental increase in 2017 if ≥90 percent of 2016 allocation is harvested | Up to maximum percent of each TAC of: (%)
Pacific ocean perch | 5 metric tons | 5 metric tons | 1
Northern rockfish | 5 metric tons | 5 metric tons | 2
Dusky rockfish | 30 metric tons | 20 metric tons | 5

Section 679.81(a)(2) requires allocations of rockfish primary species among various components of the Rockfish Program. Table 7 lists the proposed 2016 and 2017 allocations of rockfish in the Central GOA to the entry level longline fishery and other participants in the Rockfish Program, which include CV and C/P cooperatives. NMFS also proposes setting aside incidental catch amounts (ICAs) for other directed fisheries in the Central GOA of 2,000 mt of Pacific ocean perch, 250 mt of northern rockfish, and 250 mt of dusky rockfish. These amounts are based on recent average incidental catches in the Central GOA by other groundfish fisheries.

Allocations between vessels belonging to CV or C/P cooperatives are not included in these proposed harvest specifications. Rockfish Program applications for CV cooperatives and C/P cooperatives are not due to NMFS until March 1 of each calendar year; therefore, NMFS cannot calculate 2016 and 2017 allocations in conjunction with these proposed harvest specifications. NMFS will post these allocations on the Alaska Region Web site at http://alaskafisheries.noaa.gov/sustainablefisheries/rockfish/ after March 1.

Table 7—Proposed 2016 and 2017 Allocations of Rockfish Primary Species in the Central Gulf of Alaska to the Entry Level Longline Fishery and Other Participants in the Rockfish Program
[Values are rounded to the nearest metric ton]
Rockfish primary species | TAC | Incidental catch allowance (ICA) | TAC minus ICA | Allocation to the entry level longline ¹ fishery | Allocation to the Rockfish Cooperatives
Pacific ocean perch | 16,184 | 2,000 | 14,184 | 5 | 14,179
Northern rockfish | 3,563 | 250 | 3,313 | 5 | 3,308
Dusky rockfish | 3,077 | 250 | 2,827 | 30 | 2,797
Total | 22,824 | 2,500 | 20,324 | 40 | 20,284
¹ Longline gear includes hook-and-line, jig, troll, and handline gear.
² Rockfish cooperatives include vessels in CV and C/P cooperatives.

Section 679.81(c) requires allocations of rockfish secondary species to CV and C/P cooperatives in the GOA. CV cooperatives receive allocations of Pacific cod, sablefish from the trawl gear allocation, and thornyhead rockfish. C/P cooperatives receive allocations of sablefish from the trawl allocation, rougheye rockfish, shortraker rockfish, and thornyhead rockfish. Table 8 lists the apportionments of the proposed 2016 and 2017 TACs of rockfish secondary species in the Central GOA to CV and C/P cooperatives.

Table 8—Proposed 2016 and 2017 Apportionments of Rockfish Secondary Species in the Central GOA to Catcher Vessel and Catcher/Processor Cooperatives
[Values are in metric tons]
Rockfish secondary species | Central GOA annual TAC | Catcher vessel cooperatives: Percentage of TAC | Catcher vessel cooperatives: Apportionment (mt) | Catcher/processor cooperatives: Percentage of TAC | Catcher/processor cooperatives: Apportionment (mt)
Pacific cod | 45,990 | 3.81 | 1,752 | N/A | N/A
Sablefish | 4,232 | 6.78 | 287 | 3.51 | 149
Shortraker rockfish | 397 | N/A | N/A | 40.00 | 159
Rougheye rockfish | 643 | N/A | N/A | 58.87 | 379
Thornyhead rockfish | 875 | 7.84 | 69 | 26.50 | 232

Halibut PSC Limits

Section 679.21(d) establishes annual halibut PSC limit apportionments to trawl and hook-and-line gear, and authorizes the establishment of apportionments for pot gear. Amendment 95 to the FMP (79 FR 9625, February 20, 2014) implemented measures establishing GOA halibut PSC limits in Federal regulations and reducing the halibut PSC limits in the GOA trawl and hook-and-line groundfish fisheries. These reductions are incorporated into the halibut PSC limits that are proposed by this action. For most gear and operational types, the halibut PSC limit reductions are phased-in over 3 years, beginning in 2014 and ending in 2016.

In 2015, the trawl halibut PSC limit was reduced by 12 percent from the 2013 limit. Under Amendment 95 and § 679.21(d)(3)(i), the initial trawl halibut PSC limit is reduced by an additional 3 percent in 2016. This results in a total reduction of 15 percent in 2016 as compared to the 2013 halibut PSC limit. The reduced PSC limit will remain in effect each year thereafter.

In addition, under Amendment 95 and § 679.21(d)(2)(iv), the initial hook-and-line PSC for the other hook and-line CV sector was reduced 7 percent in 2014 and an additional 5-percent in 2015. This action implements an additional 3-percent reduction in 2016 for a total reduction of 15 percent from the 2013 limit. The PSC limit for the hook-and-line C/P sector was reduced by 7 percent in 2014 and thereafter.

In October 2015, the Council recommended halibut PSC limits that reflect the reductions implemented under Amendment 95 of 1,706 mt for trawl gear, 256 mt for hook-and-line gear, and 9 mt for the demersal shelf rockfish (DSR) fishery in the SEO District for the 2016 groundfish fisheries.

The DSR fishery in the SEO District is defined at § 679.21(d)(2)(ii)(A). This fishery is apportioned 9 mt of the halibut PSC limit in recognition of its small-scale harvests of groundfish. NMFS estimates low halibut bycatch in the DSR fishery because (1) the duration of the DSR fisheries and the gear soak times are short, (2) the DSR fishery occurs in the winter when less overlap occurs in the distribution of DSR and halibut, and (3) the directed commercial DSR fishery has a low DSR TAC. The Alaska Department of Fish and Game sets the commercial GHL for the DSR fishery after deducting (1) estimates of DSR incidental catch in all fisheries (including halibut and subsistence) and (2) the allocation to the DSR sport fish fishery. Of the 225 mt TAC for DSR in 2015, 83 mt were available for the DSR commercial directed fishery, of which 36 mt were harvested.

The FMP authorizes the Council to exempt specific gear from the halibut PSC limits. NMFS, after consultation with the Council, proposes to exempt pot gear, jig gear, and the sablefish IFQ hook-and-line gear fishery categories from the non-trawl halibut PSC limit for 2016 and 2017. The Council recommended, and NMFS is proposing, these exemptions because (1) pot gear fisheries have low annual halibut bycatch mortality, (2) IFQ program regulations prohibit discard of halibut if any halibut IFQ permit holder on board a CV holds unused halibut IFQ (§ 679.7(f)(11)), (3) sablefish IFQ fishermen typically hold halibut IFQ permits and are therefore required to retain the halibut they catch while fishing sablefish IFQ, and (4) NMFS estimates negligible halibut mortality for the jig gear fisheries. NMFS estimates halibut mortality is negligible in the jig gear fisheries given the small amount of groundfish harvested by jig gear, the selective nature of jig gear, and the high survival rates of halibut caught and released with jig gear.

The best available information on estimated halibut bycatch consists of data collected by fisheries observers during 2015. The calculated halibut bycatch mortality through October 31, 2015, is 1,324 mt for trawl gear and 185 mt for hook-and-line gear for a total halibut mortality of 1,509 mt. This halibut mortality was calculated using groundfish and halibut catch data from the NMFS Alaska Region's catch accounting system. This account system contains historical and recent catch information compiled from each Alaska groundfish fishery.

Section 679.21(d)(4)(i) and (ii) authorizes NMFS to seasonally apportion the halibut PSC limits after consultation with the Council. The FMP and regulations require that the Council and NMFS consider the following information in seasonally apportioning halibut PSC limits: (1) Seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry. Based on public comment and the information presented in the final 2015 SAFE report, the Council may recommend or NMFS may make changes to the seasonal, gear-type, or fishery category apportionments of halibut PSC limits for the final 2016 and 2017 harvest specifications.

The final 2015 and 2016 harvest specifications (80 FR 10250, February 26, 2015) summarized the Council's and NMFS' findings with respect to halibut PSC for each of these FMP considerations. The Council's and NMFS' findings for 2016 are unchanged from 2015. Table 9 lists the proposed 2016 and 2017 Pacific halibut PSC limits, allowances, and apportionments. The halibut PSC limits in these tables reflect the halibut PSC reductions implemented in accordance with Amendment 95 (79 FR 9625, February 20, 2014) and § 679.21(d)(3)(i). Sections 679.21(d)(4)(iii) and (iv) specify that any underages or overages of a seasonal apportionment of a PSC limit will be deducted from or added to the next respective seasonal apportionment within the fishing year.

Table 9—Proposed 2016 and 2017 Pacific Halibut PSC Limits, Allowances, and Apportionments
[Values are in metric tons]
Trawl gear: Season | Trawl gear: Percent | Trawl gear: Amount | Hook-and-line gear¹: Other than DSR: Season | Hook-and-line gear¹: Other than DSR: Percent | Hook-and-line gear¹: Other than DSR: Amount | Hook-and-line gear¹: DSR: Season | Hook-and-line gear¹: DSR: Amount
January 20-April 1 | 27.5 | 469 | January 1-June 10 | 86 | 220 | January 1-December 31 | 9
April 1-July 1 | 20 | 341 | June 10-September 1 | 2 | 5 |  |
July 1-September 1 | 30 | 512 | September 1-December 31 | 12 | 31 |  |
September 1-October 1 | 7.5 | 128 |  |  |  |  |
October 1-December 31 | 15 | 256 |  |  |  |  |
Total |  | 1,706 |  |  | 256 |  | 9
¹ The Pacific halibut PSC limit for hook-and-line gear is allocated to the demersal shelf rockfish (DSR) fishery and fisheries other than DSR. The hook-and-line IFQ sablefish fishery is exempt from halibut PSC limits, as are pot and jig gear for all groundfish fisheries.

Section 679.21(d)(3)(ii) authorizes further apportionment of the trawl halibut PSC limit as bycatch allowances to trawl fishery categories. The annual apportionments are based on each category's proportional share of the anticipated halibut bycatch mortality during a fishing year and optimization of the total amount of groundfish harvest under the halibut PSC limit. The fishery categories for the trawl halibut PSC limits are (1) a deep-water species fishery, composed of sablefish, rockfish, deep-water flatfish, rex sole, and arrowtooth flounder; and (2) a shallow-water species fishery, composed of pollock, Pacific cod, shallow-water flatfish, flathead sole, Atka mackerel, skates and “other species” (sculpins, sharks, squids, and octopuses) (§ 679.21(d)(3)(iii)).

Table 10 lists the proposed 2016 and 2017 seasonal apportionments of trawl halibut PSC limits between the trawl gear deep-water and the shallow-water species fisheries. These limits proportionately incorporate the halibut PSC limit reductions implemented in accordance with Amendment 95 (79 FR 9625, February 20, 2014) and § 679.21(d)(3).

Table 28d to 50 CFR part 679 specifies the amount of the trawl halibut PSC limit that is assigned to the CV and C/P sectors that are participating in the Central GOA Rockfish Program. This includes 117 mt of halibut PSC limit to the CV sector and 74 mt of halibut PSC limit to the C/P sector. These amounts are allocated from the trawl deep-water species fishery's halibut PSC third seasonal apportionment.

Section 679.21(d)(4)(iii)(B) limits the amount of the halibut PSC limit allocated to Rockfish Program participants that could be re-apportioned to the general GOA trawl fisheries to no more than 55 percent of the unused annual halibut PSC apportioned to Rockfish Program participants. The remainder of the unused Rockfish Program halibut PSC limit is unavailable for use by vessels directed fishing with trawl gear for the remainder of the fishing year.

Table 10—Proposed 2016 and 2017 Seasonal Apportionments of the Pacific Halibut PSC Limit Apportioned Between the Trawl Gear Shallow-Water and Deep-Water Species Fisheries
[Values are in metric tons]
Season | Shallow-water | Deep-water ¹ | Total
January 20-April 1 | 384 | 85 | 469
April 1-July 1 | 85 | 256 | 341
July 1-September 1 | 171 | 341 | 512
September 1-October 1 | 128 | Any remainder | 128
Subtotal, January 20-October 1 | 768 | 682 | 1,450
October 1-December 31 ² |  |  | 256
Total |  |  | 1,706
¹ Vessels participating in cooperatives in the Rockfish Program will receive 191 mt of the third season (July 1 through September 1) deep-water species fishery halibut PSC apportionment.
² There is no apportionment between trawl shallow-water and deep-water species fisheries during the fifth season (October 1 through December 31).

Section 679.21(d)(2) requires that the “other hook-and-line fishery” halibut PSC apportionment to vessels using hook-and-line gear must be divided between CVs and C/Ps. NMFS must calculate the halibut PSC limit apportionments for the entire GOA to hook-and-line CVs and C/Ps in accordance with § 679.21(d)(2)(iii) in conjunction with these harvest specifications. A comprehensive description and example of the calculations necessary to apportion the “other hook-and-line fishery” halibut PSC limit between the hook-and-line CV and C/P sectors were included in the proposed rule to implement Amendment 83 to the FMP (76 FR 44700, July 26, 2011) and is not repeated here.

For 2016 and 2017, NMFS proposes annual halibut PSC limit apportionments of 140 mt and 116 mt to the hook-and-line CV and hook-and-line C/P sectors, respectively. The 2016 and 2017 annual halibut PSC limits are divided into three seasonal apportionments, using seasonal percentages of 86 percent, 2 percent, and 12 percent. Table 11 lists the proposed 2016 and 2017 annual halibut PSC limits and seasonal apportionments between the hook-and-line CV and hook-and-line C/P sectors in the GOA.

No later than November 1 of each year, NMFS calculates the projected unused amount of halibut PSC limit by either of the hook-and-line sectors for the remainder of the year. The projected unused amount of halibut PSC limit is made available to the other hook-and-line sector for the remainder of that fishing year if NMFS determines that an additional amount of halibut PSC limit is necessary for that sector to continue its directed fishing operations (§ 679.21(d)(2)(iii)(C)).

Table 11—Proposed 2016 and 2017 Apportionments of the “Other Hook-and-Line fisheries” Halibut PSC Allowance Between the Hook-and-Line Gear Catcher Vessel and Catcher/Processor Sectors
[Values are in metric tons]
“Other than DSR” allowance | Hook-and- line sector | Sector annual amount | Season | Seasonal percentage | Sector seasonal amount
256 | Catcher Vessel | 140 | January 1-June 10 | 86 | 120
|  |  | June 10-September 1 | 2 | 3
|  |  | September 1-December 31 | 12 | 17
| Catcher/Processor | 116 | January 1-June 10 | 86 | 100
|  |  | June 10-September 1 | 2 | 2
|  |  | September 1-December 31 | 12 | 14

Halibut Discard Mortality Rates

To monitor halibut bycatch mortality allowances and apportionments, the Regional Administrator uses observed halibut incidental catch rates, discard mortality rates (DMRs), and estimates of groundfish catch to project when a fishery's halibut bycatch mortality allowance or seasonal apportionment is reached. The DMRs are based on the best information available, including information contained in the annual SAFE report.

NMFS proposes the Council's recommendation that the halibut DMRs developed and recommended by the International Pacific Halibut Commission (IPHC) for the 2016 through 2017 GOA groundfish fisheries be used to monitor the proposed 2016 and 2017 halibut bycatch mortality allowances (see Tables 9 through 11). The IPHC developed the DMRs for the 2016 through 2017 GOA groundfish fisheries using the 10-year mean DMRs for those fisheries. Long-term average DMRs were not available for some fisheries, so rates from the most recent years were used. For the skate, sculpin, shark, squid, and octopus fisheries, where not enough mortality data are available, the mortality rate of halibut caught in the Pacific cod fishery for that gear type was recommended as a default rate. The IPHC will analyze observer data annually and recommend changes to the DMRs when a fishery DMR shows large variation from the mean. A discussion of the DMRs and how the IPHC establishes them is available from the Council (see ADDRESSES). Any changes to the current DMRs will be incorporated into the final GOA harvest specifications. Table 12 lists the proposed 2016 and 2017 DMRs.

Table 12—Proposed 2016 and 2017 Halibut Discard Mortality Rates for Vessels Fishing in the Gulf of Alaska
[Values are percent of halibut assumed to be dead]
Gear | Target fishery | Mortality rate (%)
Hook-and-line | Other fisheries ¹ | 10
| Skates | 10
| Pacific cod | 10
| Rockfish | 9
Trawl | Arrowtooth flounder | 76
| Deep-water flatfish | 43
| Flathead sole | 67
| Non-pelagic pollock | 58
| Other fisheries | 62
| Pacific cod | 62
| Pelagic pollock | 59
| Rex sole | 71
| Rockfish | 65
| Sablefish | 59
| Shallow-water flatfish | 66
Pot | Other fisheries | 21
| Pacific cod | 21
¹ Other fisheries includes targets for hook-and-line sablefish and all gear types for Atka mackerel, skates, sculpins, sharks, squids, and octopuses.

Chinook Salmon Prohibited Species Catch Limits

Amendment 93 to the FMP (77 FR 42629, July 20, 2012) established separate Chinook salmon PSC limits in the Western and Central GOA in the directed pollock fishery. These limits require NMFS to close the pollock directed fishery in the Western and Central regulatory areas of the GOA if the applicable limit is reached (§ 679.21(h)(6)). The annual Chinook salmon PSC limits in the pollock directed fishery of 6,684 salmon in the Western GOA and 18,316 salmon in the Central GOA are set in § 679.21(h)(2)(i) and (ii). In addition, all salmon (regardless of species), taken in the pollock directed fisheries in the Western and Central GOA must be retained until an observer at the processing facility that takes delivery of the catch is provided an opportunity to count the number of salmon and to collect any scientific data or biological samples from the salmon (§ 679.21(h)(4)).

Amendment 97 to the FMP (79 FR 71350, December 2, 2014) established an initial annual PSC limit of 7,500 Chinook salmon for the non-pollock groundfish fisheries. This limit is apportioned among three sectors: 3,600 Chinook salmon to trawl C/Ps; 1,200 Chinook salmon to trawl CVs participating in the Rockfish Program; and 2,700 Chinook salmon to trawl CVs not participating in the Rockfish Program that are fishing for groundfish species other than pollock (§ 679.21(i)(3)). NMFS will monitor the Chinook salmon PSC in the non-pollock GOA groundfish fisheries and close an applicable sector if it reaches its Chinook salmon PSC limit.

The Chinook salmon PSC limit for two sectors, trawl C/Ps and trawl CVs not participating in the Rockfish Program, may be increased in subsequent years based on the performance of these two sectors and their ability to minimize their use of their respective Chinook salmon PSC limits. If either or both of these two sectors limits its use of Chinook salmon PSC to a certain threshold amount in 2015, that sector will receive an incremental increase to its 2016 Chinook salmon PSC limit (§ 679.21(i)(3)). NMFS will evaluate the annual Chinook salmon PSC by trawl C/Ps and non-Rockfish Program CVs when the 2015 fishing year is complete to determine whether to increase the Chinook salmon PSC limits for these two sectors. Based on preliminary 2015 Chinook salmon PSC data, the trawl C/P sector will receive an incremental increase of its Chinook salmon PSC limit, whereas the non-Rockfish Program CV sector will not. This evaluation will be completed in conjunction with the final 2016 and 2017 harvest specifications.

American Fisheries Act (AFA) Catcher/Processor and Catcher Vessel Groundfish Sideboard Limits

Section 679.64 establishes groundfish harvesting and processing sideboard limits on AFA C/Ps and CVs in the GOA. These sideboard limits are necessary to protect the interests of fishermen and processors who do not directly benefit from the AFA from those fishermen and processors who receive exclusive harvesting and processing privileges under the AFA. Section 679.7(k)(1)(ii) prohibits listed AFA C/Ps from harvesting any species of fish in the GOA. Additionally, § 679.7(k)(1)(iv) prohibits listed AFA C/Ps from processing any pollock harvested in a directed pollock fishery in the GOA and any groundfish harvested in Statistical Area 630 of the GOA.

AFA CVs that are less than 125 ft (38.1 meters) length overall, have annual landings of pollock in the Bering Sea and Aleutian Islands of less than 5,100 mt, and have made at least 40 landings of GOA groundfish from 1995 through 1997 are exempt from GOA sideboard limits under § 679.64(b)(2)(ii). Sideboard limits for non-exempt AFA CVs operating in the GOA are based on their traditional harvest levels of TAC in groundfish fisheries covered by the FMP. Section 679.64(b)(3)(iii) establishes the groundfish sideboard limitations in the GOA based on the retained catch of non-exempt AFA CVs of each sideboard species from 1995 through 1997 divided by the TAC for that species over the same period.

Table 13 lists the proposed 2016 and 2017 groundfish sideboard limits for non-exempt AFA CVs. NMFS will deduct all targeted or incidental catch of sideboard species made by non-exempt AFA CVs from the sideboard limits listed in Table 16.

Table 13—Proposed 2016 and 2017 GOA Non-Exempt American Fisheries Act Catcher Vessel (CV) Groundfish Harvest Sideboard Limits
[Values are rounded to the nearest metric ton]
Species | Apportionments by season/gear | Area/component | Ratio of 1995-1997 non-exempt AFA CV catch to 1995-1997 TAC | Proposed 2016 and 2017 TACs ³ | Proposed 2016 and 2017 non-exempt AFA CV sideboard limit
Pollock | A Season, January 20-March 10 | Shumagin (610) Chirikof (620) Kodiak (630) | 0.6047 0.1167 0.2028 | 4,760 39,992 14,839 | 2,879 4,667 3,009
| B Season, March 10-May 31 | Shumagin (610) Chirikof (620) Kodiak (630) | 0.6047 0.1167 0.2028 | 4,760 49,586 5,245 | 2,879 5,787 1,064
| C Season, August 25-October 1 | Shumagin (610) Chirikof (620) Kodiak (630) | 0.6047 0.1167 0.2028 | 15,975 19,179 24,437 | 9,660 2,238 4,956
| D Season, October 1-November 1 | Shumagin (610) Chirikof (620) Kodiak (630) | 0.6047 0.1167 0.2028 | 15,975 19,179 24,437 | 9,660 2,238 4,956
| Annual | WYK (640) SEO (650) | 0.3495 0.3495 | 6,187 12,625 | 2,162 4,412
Pacific cod | A Season ¹, January 1-June 10 | W C | 0.1331 0.0692 | 16,255 27,594 | 2,164 1,910
| B Season ², September 1-December 31 | W C | 0.1331 0.0692 | 10,837 18,396 | 1,442 1,273
| Annual | E inshore E offshore | 0.0079 0.0078 | 1,909 212 | 15 2
Sablefish | Annual, trawl gear | W C E | 0.0000 0.0642 0.0433 | 268 846 199 | 0 54 9
Flatfish, shallow-water | Annual | W C E | 0.0156 0.0587 0.0126 | 13,250 17,114 2,513 | 207 1,005 32
Flatfish, deep-water | Annual | W C E | 0.0000 0.0647 0.0128 | 299 3,645 9,233 | 0 236 118
Rex sole | Annual | W C E | 0.0007 0.0384 0.0029 | 1,234 5,707 2,038 | 1 219 6
Arrowtooth flounder | Annual | W C E | 0.0021 0.0280 0.0002 | 14,500 75,000 13,800 | 30 2,100 3
Flathead sole | Annual | W C E | 0.0036 0.0213 0.0009 | 8,650 15,400 3,709 | 31 328 3
Pacific ocean perch | Annual | W C E | 0.0023 0.0748 0.0466 | 2,358 16,184 2,894 | 5 1,211 135
Northern rockfish | Annual | W C | 0.0003 0.0277 | 1,158 3,563 | 0 99
Shortraker rockfish | Annual | W C E | 0.0000 0.0218 0.0110 | 92 397 834 | 0 9 9
Dusky Rockfish | Annual | W C E | 0.0001 0.0000 0.0067 | 273 3,077 1,361 | 0 0 9
Rougheye rockfish | Annual | W C E | 0.0000 0.0237 0.0124 | 117 643 382 | 0 15 5
Demersal shelf rockfish | Annual | SEO | 0.0020 | 225 | 0
Thornyhead rockfish | Annual | W C E | 0.0280 0.0280 0.0280 | 235 875 731 | 7 25 20
Other Rockfish | Annual | W C E | 0.0034 0.1699 0.0000 | n/a 1,031 780 | n/a 175 0
Atka mackerel | Annual | Gulfwide | 0.0309 | 2,000 | 62
Big skates | Annual | W C E | 0.0063 0.0063 0.0063 | 731 1,257 1,267 | 5 8 8
Longnose skates | Annual | W C E | 0.0063 0.0063 0.0063 | 152 2,090 976 | 1 13 6
Other skates | Annual | Gulfwide | 0.0063 | 2,235 | 14
Squids | Annual | Gulfwide | 0.0063 | 5,569 | 35
Sharks | Annual | Gulfwide | 0.0063 | 5,989 | 38
Octopuses | Annual | Gulfwide | 0.0063 | 1,148 | 7
Sculpins | Annual | Gulfwide | 0.0063 | 1,507 | 9
¹ The Pacific cod A season for trawl gear does not open until January 20.
² The Pacific cod B season for trawl gear closes November 1.
³ The Western and Central GOA area apportionments of pollock are considered ACLs.

Non-Exempt AFA Catcher Vessel Halibut PSC Limits

The halibut PSC sideboard limits for non-exempt AFA CVs in the GOA are based on the aggregate retained groundfish catch by non-exempt AFA CVs in each PSC target category from 1995 through 1997 divided by the retained catch of all vessels in that fishery from 1995 through 1997 (§ 679.64(b)(4)). Table 14 lists the proposed 2016 and 2017 non-exempt AFA CV halibut PSC limits for vessels using trawl gear in the GOA. The proposed 2016 and 2017 seasonal apportionments of trawl halibut PSC limits between the deep-water and shallow-water species fisheries categories proportionately incorporate reductions made to the annual trawl halibut PSC limits and associated seasonal apportionments (see Table 10).

Table 14—Proposed 2016 and 2017 Non-Exempt American Fisheries Act Catcher Vessel Halibut Prohibited Species Catch (PSC) Limits for Vessels Using Trawl Gear in the GOA
[PSC limits are rounded to the nearest whole metric ton]
Season | Season dates | Target fishery | Ratio of 1995-1997 non-exempt AFA CV retained catch to total retained catch | Proposed 2016 and 2017 PSC limit | Proposed 2016 and 2017 non-exempt AFA CV PSC limit
1 | January 20-April 1 | shallow-water | 0.340 | 384 | 131
|  | deep-water | 0.070 | 85 | 6
2 | April 1-July 1 | shallow-water | 0.340 | 85 | 29
|  | deep-water | 0.070 | 256 | 18
3 | July 1-September 1 | shallow-water | 0.340 | 171 | 58
|  | deep-water | 0.070 | 341 | 24
4 | September 1-October 1 | shallow-water | 0.340 | 128 | 44
|  | deep-water | 0.070 | 0 | 0
5 | October 1-December 31 | all targets | 0.205 | 256 | 52
Total |  |  |  | 1,706 | 361

Non-AFA Crab Vessel Groundfish Sideboard Limits

Section 680.22 establishes groundfish catch limits for vessels with a history of participation in the Bering Sea snow crab fishery to prevent these vessels from using the increased flexibility provided by the Crab Rationalization Program to expand their level of participation in the GOA groundfish fisheries. Sideboard limits restrict these vessels' catch to their collective historical landings in each GOA groundfish fishery (except the fixed-gear sablefish fishery). Sideboard limits also apply to landings made using an LLP license derived from the history of a restricted vessel, even if that LLP license is used on another vessel.

The basis for these sideboard limits is described in detail in the final rules implementing the major provisions of the Crab Rationalization Program, including Amendments 18 and 19 to the Fishery Management Plan for Bering Sea/Aleutian Islands King and Tanner Crabs (Crab FMP) (70 FR 10174, March 2, 2005), Amendment 34 to the Crab FMP (76 FR 35772, June 20, 2011), and Amendment 83 to the GOA FMP (76 FR 74670, December 1, 2011).

Table 15 lists the proposed 2016 and 2017 groundfish sideboard limitations for non-AFA crab vessels. All targeted or incidental catch of sideboard species made by non-AFA crab vessels or associated LLP licenses will be deducted from these sideboard limits.

Table 15—Proposed 2016 and 2017 GOA Non-American Fisheries Act Crab Vessel Groundfish Harvest Sideboard Limits
[Values are rounded to the nearest metric ton]
Species | Season/gear | Area/component/gear | Ratio of 1996-2000 non-AFA crab vessel catch to 1996-2000 total harvest | Proposed 2016 and 2017 TACs | Proposed 2016 and 2017 non-AFA crab vessel sideboard limit
Pollock | A Season, January 20-March 10 | Shumagin (610) | 0.0098 | 4,760 | 47
|  | Chirikof (620) | 0.0031 | 39,992 | 124
|  | Kodiak (630) | 0.0002 | 14,839 | 3
| B Season, March 10-May 31 | Shumagin (610) | 0.0098 | 4,760 | 47
|  | Chirikof (620) | 0.0031 | 49,586 | 154
|  | Kodiak (630) | 0.0002 | 5,245 | 1
| C Season, August 25-October 1 | Shumagin (610) | 0.0098 | 15,975 | 157
|  | Chirikof (620) | 0.0031 | 19,179 | 59
|  | Kodiak (630) | 0.0002 | 24,437 | 5
| D Season, October 1-November 1 | Shumagin (610) | 0.0098 | 15,975 | 157
|  | Chirikof (620) | 0.0031 | 19,179 | 59
|  | Kodiak (630) | 0.0002 | 24,437 | 5
| Annual | WYK (640) | 0.0000 | 6,187 | 0
|  | SEO (650) | 0.0000 | 12,625 | 0
Pacific cod | A Season,¹ January 1-June 10 | W Jig CV | 0.0000 | 16,255 | 0
|  | W Hook-and-line CV | 0.0004 | 16,255 | 7
|  | W Pot CV | 0.0997 | 16,255 | 1,621
|  | W Pot C/P | 0.0078 | 16,255 | 127
|  | W Trawl CV | 0.0007 | 16,255 | 11
|  | C Jig CV | 0.0000 | 27,594 | 0
|  | C Hook-and-line CV | 0.0001 | 27,594 | 3
|  | C Pot CV | 0.0474 | 27,594 | 1,308
|  | C Pot C/P | 0.0136 | 27,594 | 375
|  | C Trawl CV | 0.0012 | 27,594 | 33
| B Season,² September 1—December 31 | W Jig CV | 0.0000 | 10,837 | 0
|  | W Hook-and-line CV | 0.0004 | 10,837 | 4
|  | W Pot CV | 0.0997 | 10,837 | 1,080
|  | W Pot C/P | 0.0078 | 10,837 | 85
|  | W Trawl CV | 0.0007 | 10,837 | 8
|  | C Jig CV | 0.0000 | 18,396 | 0
|  | C Hook-and-line CV | 0.0001 | 18,396 | 2
|  | C Pot CV | 0.0474 | 18,396 | 872
|  | C Pot C/P | 0.0136 | 18,396 | 250
|  | C Trawl CV | 0.0012 | 18,396 | 22
| Annual | E inshore | 0.0110 | 1,909 | 21
|  | E offshore | 0.0000 | 212 | 0
Sablefish | Annual, trawl gear | W | 0.0000 | 268 | 0
|  | C | 0.0000 | 846 | 0
|  | E | 0.0000 | 199 | 0
Flatfish, shallow-water | Annual | W | 0.0059 | 13,250 | 78
|  | C | 0.0001 | 17,114 | 2
|  | E | 0.0000 | 2,513 | 0
Flatfish, deep-water | Annual | W | 0.0035 | 299 | 1
|  | C | 0.0000 | 3,645 | 0
|  | E | 0.0000 | 9,233 | 0
Rex sole | Annual | W | 0.0000 | 1,234 | 0
|  | C | 0.0000 | 5,707 | 0
|  | E | 0.0000 | 2,038 | 0
Arrowtooth flounder | Annual | W | 0.0004 | 14,500 | 6
|  | C | 0.0001 | 75,000 | 8
|  | E | 0.0000 | 13,800 | 0
Flathead sole | Annual | W | 0.0002 | 8,650 | 2
|  | C | 0.0004 | 15,400 | 6
|  | E | 0.0000 | 3,709 | 0
Pacific ocean perch | Annual | W | 0.0000 | 2,358 | 0
|  | C | 0.0000 | 16,184 | 0
|  | E | 0.0000 | 2,894 | 0
Northern rockfish | Annual | W | 0.0005 | 1,158 | 1
|  | C | 0.0000 | 3,563 | 0
Shortraker rockfish | Annual | W | 0.0013 | 92 | 0
|  | C | 0.0012 | 397 | 0
|  | E | 0.0009 | 834 | 1
Dusky rockfish | Annual | W | 0.0017 | 273 | 0
|  | C | 0.0000 | 3,077 | 0
|  | E | 0.0000 | 1,361 | 0
Rougheye rockfish | Annual | W | 0.0067 | 117 | 1
|  | C | 0.0047 | 643 | 3
|  | E | 0.0008 | 382 | 0
Demersal shelf rockfish | Annual | SEO | 0.0000 | 225 | 0
Thornyhead rockfish | Annual | W | 0.0047 | 235 | 1
|  | C | 0.0066 | 875 | 6
|  | E | 0.0045 | 731 | 3
Other rockfish | Annual | W | 0.0035 |  |
|  | C | 0.0033 | 1,031 | 3
|  | E | 0.0000 | 780 | 0
Atka mackerel | Annual | Gulfwide | 0.0000 | 2,000 | 0
Big skate | Annual | W | 0.0392 | 731 | 29
|  | C | 0.0159 | 1,257 | 20
|  | E | 0.0000 | 1,267 | 0
Longnose skate | Annual | W | 0.0392 | 152 | 6
|  | C | 0.0159 | 2,090 | 33
|  | E | 0.0000 | 976 | 0
Other skates | Annual | Gulfwide | 0.0176 | 2,235 | 39
Sculpins | Annual | Gulfwide | 0.0176 | 5,569 | 98
Sharks | Annual | Gulfwide | 0.0176 | 5,989 | 105
Squids | Annual | Gulfwide | 0.0176 | 1,148 | 20
Octopuses | Annual | Gulfwide | 0.0176 | 1,507 | 27
¹ The Pacific cod A season for trawl gear does not open until January 20.
² The Pacific cod B season for trawl gear closes November 1.

Rockfish Program Groundfish Sideboard and Halibut PSC Limitations

The Rockfish Program establishes three classes of sideboard provisions: CV groundfish sideboard restrictions, C/P rockfish sideboard restrictions, and C/P opt-out vessel sideboard restrictions. These sideboards are intended to limit the ability of rockfish harvesters to expand into other fisheries.

CVs participating in the Rockfish Program may not participate in directed fishing for dusky rockfish, northern rockfish, and Pacific ocean perch in the Western GOA and West Yakutat Districts from July 1 through July 31. Also, CVs may not participate in directed fishing for arrowtooth flounder, deep-water flatfish, and rex sole in the GOA from July 1 through July 31 (§ 679.82(d)).

C/Ps participating in Rockfish Program cooperatives are restricted by rockfish and halibut PSC sideboard limits. These C/Ps are prohibited from directed fishing for northern rockfish, Pacific ocean perch, and dusky rockfish in the Western GOA and West Yakutat District from July 1 through July 31. Holders of C/P-designated LLP licenses that opt out of participating in a rockfish cooperative will receive the portion of each sideboard limit that is not assigned to rockfish cooperatives. Table 16 lists the proposed 2016 and 2017 Rockfish Program C/P rockfish sideboard limits in the Western GOA and West Yakutat District. Due to confidentiality requirements associated with fisheries data, the sideboard limits for the West Yakutat District are not displayed.

Table 16—Proposed 2016 and 2017 Rockfish Program Harvest Limits for the Western GOA and West Yakutat District by Fishery for the Catcher/Processor (C/P) Sector
[Values are rounded to the nearest metric ton]
Area | Fishery | C/P sector (% of TAC) | Proposed 2016 and 2017 TACs | Proposed 2016 and 2017 C/P limit
Western GOA | Dusky rockfish | 72.3 | 273 | 197
| Pacific ocean perch | 50.6 | 2,358 | 1,193
| Northern rockfish | 74.3 | 1,158 | 860
West Yakutat District | Dusky rockfish | Confid.¹ | 1,187 | N/A
| Pacific ocean perch | Confid.¹ | 2,055 | N/A
¹ Not released due to confidentiality requirements associated with fish ticket data, as established by NMFS and the State of Alaska.

Under the Rockfish Program, the C/P sector is subject to halibut PSC sideboard limits for the trawl deep-water and shallow-water species fisheries from July 1 through July 31. No halibut PSC sideboard limits apply to the CV sector as vessels participating in a rockfish cooperative receive a portion of the annual halibut PSC limit. C/Ps that opt out of the Rockfish Program would be able to access that portion of the deep-water and shallow-water halibut PSC sideboard limit not assigned to C/P rockfish cooperatives. The sideboard provisions for C/Ps that elect to opt out of participating in a rockfish cooperative are described in § 679.82(c), (e), and (f). Sideboard limits are linked to the catch history of specific vessels that may choose to opt out. After March 1, NMFS will determine which C/Ps have opted-out of the Rockfish Program in 2016, and will know the ratios and amounts used to calculate opt-out sideboard ratios. NMFS will then calculate any applicable opt-out sideboard limits and post these limits on the Alaska Region Web site at http://alaskafisheries.noaa.gov/sustainablefisheries/rockfish/. Table 17 lists the 2016 and 2017 proposed Rockfish Program halibut PSC limits for the C/P sector. These proposed 2016 and 2017 halibut PSC limits proportionately incorporate reductions made to the annual trawl halibut PSC limits and associated seasonal apportionments (see Table 10).

Table 17—Proposed 2016 and 2017 Rockfish Program Halibut Mortality Limits for the Catcher/Processor Sector
[Values are rounded to the nearest metric ton]
Sector | Shallow-water species fishery halibut PSC sideboard ratio (percent) | Deep-water species fishery halibut PSC sideboard ratio (percent) | Annual halibut mortality limit (mt) | Annual shallow-water species fishery halibut PSC sideboard limit (mt) | Annual deep-water species fishery halibut PSC sideboard limit (mt)
Catcher/processor | 0.10 | 2.50 | 1,706 | 2 | 43

Amendment 80 Program Groundfish Sideboard and PSC Limits

Amendment 80 to the Fishery Management Plan for Groundfish of the Bering Sea and Aleutian Islands Management Area (Amendment 80 Program) established a limited access privilege program for the non-AFA trawl C/P sector. The Amendment 80 Program established groundfish and halibut PSC limits for Amendment 80 Program participants to limit the ability of participants eligible for the Amendment 80 Program to expand their harvest efforts in the GOA.

Section 679.92 establishes groundfish harvesting sideboard limits on all Amendment 80 Program vessels, other than the F/V Golden Fleece, to amounts no greater than the limits shown in Table 37 to part 679. Under § 679.92(d), the F/V Golden Fleece is prohibited from directed fishing for pollock, Pacific cod, Pacific ocean perch, dusky rockfish, and northern rockfish in the GOA.

Groundfish sideboard limits for Amendment 80 Program vessels operating in the GOA are based on their average aggregate harvests from 1998 through 2004. Table 18 lists the proposed 2016 and 2017 sideboard limits for Amendment 80 Program vessels. NMFS will deduct all targeted or incidental catch of sideboard species made by Amendment 80 Program vessels from the sideboard limits in Table 18.

Table 18—Proposed 2016 and 2017 GOA Groundfish Sideboard Limits for Amendment 80 Program Vessels
[Values are rounded to the nearest metric ton]
Species | Season | Area | Ratio of Amendment 80 sector vessels 1998-2004 catch to TAC | Proposed 2016 and 2017 TAC (mt) | Proposed 2016 and 2017 Amendment 80 vessel sideboard limits (mt)
Pollock | A Season, January 20-February 25 | Shumagin (610) | 0.003 | 4,760 | 14
|  | Chirikof (620) | 0.002 | 39,992 | 80
|  | Kodiak (630) | 0.002 | 14,839 | 30
| B Season, March 10-May 31 | Shumagin (610) | 0.003 | 4,760 | 14
|  | Chirikof (620) | 0.002 | 49,586 | 99
|  | Kodiak (630) | 0.002 | 5,245 | 10
| C Season, August 25-September 15 | Shumagin (610) | 0.003 | 15,975 | 48
|  | Chirikof (620) | 0.002 | 19,179 | 38
|  | Kodiak (630) | 0.002 | 24,437 | 49
| D Season, October 1-November 1 | Shumagin (610) | 0.003 | 15,975 | 48
|  | Chirikof (620) | 0.002 | 19,179 | 38
|  | Kodiak (630) | 0.002 | 24,437 | 49
| Annual | WYK (640) | 0.002 | 6,187 | 12
Pacific cod | A Season ¹, January 1-June 10 | W | 0.020 | 16,255 | 325
|  | C | 0.044 | 27,594 | 1,214
| B Season ², September 1-December 31 | W | 0.020 | 10,837 | 217
|  | C | 0.044 | 18,396 | 809
| Annual | WYK | 0.034 | 2,121 | 72
Pacific ocean perch | Annual | W | 0.994 | 2,358 | 2,344
|  | WYK | 0.961 | 2,055 | 1,975
Northern rockfish | Annual | W | 1.000 | 1,158 | 1,158
Dusky rockfish | Annual | W | 0.764 | 273 | 209
|  | WYK | 0.896 | 1,187 | 1,064
¹ The Pacific cod A season for trawl gear does not open until January 20.
² The Pacific cod B season for trawl gear closes November 1.

The halibut PSC sideboard limits for Amendment 80 Program vessels in the GOA are based on the historic use of halibut PSC by Amendment 80 Program vessels in each PSC target category from 1998 through 2004. These values are slightly lower than the average historic use to accommodate two factors: Allocation of halibut PSC cooperative quota under the Rockfish Program and the exemption of the F/V Golden Fleece from this restriction (§ 679.92(b)(2)). Table 19 lists the proposed 2016 and 2017 halibut PSC sideboard limits for Amendment 80 Program vessels. These tables incorporate the maximum percentages of the halibut PSC sideboard limits that may be used by Amendment 80 Program vessels, as contained in Table 38 to 50 CFR part 679. These proposed 2016 and 2017 PSC sideboard limits proportionately incorporate the reductions made to the annual trawl halibut PSC limits and associated seasonal apportionments (see Table 10).

Table 19—Proposed 2016 and 2017 Halibut PSC Sideboard Limits for Amendment 80 Program Vessels in the GOA
[Values are rounded to the nearest metric ton]
Season | Season dates | Fishery category | Historic Amendment 80 use of the annual halibut PSC limit (ratio) | Proposed 2016 annual PSC limit (mt) | Proposed 2016 Amendment 80 vessel PSC sideboard limit (mt)
1 | January 20-April 1 | shallow-water | 0.0048 | 1,706 | 8
|  | deep-water | 0.0115 | 1,706 | 20
2 | April 1-July 1 | shallow-water | 0.0189 | 1,706 | 32
|  | deep-water | 0.1072 | 1,706 | 183
3 | July 1-September 1 | shallow-water | 0.0146 | 1,706 | 25
|  | deep-water | 0.0521 | 1,706 | 89
4 | September 1-October 1 | shallow-water | 0.0074 | 1,706 | 13
|  | deep-water | 0.0014 | 1,706 | 2
5 | October 1-December 31 | shallow-water | 0.0227 | 1,706 | 39
|  | deep-water | 0.0371 | 1,706 | 63
Total |  |  |  |  | 474

Classification

NMFS has determined that the proposed harvest specifications are consistent with the FMP and preliminarily determined that the proposed harvest specifications are consistent with the Magnuson-Stevens Act and other applicable laws, subject to further review after public comment.

This action is authorized under 50 CFR 679.20 and is exempt from review under Executive Orders 12866 and 13563.

NMFS prepared an EIS for this action and made it available to the public on January 12, 2007 (72 FR 1512). On February 13, 2007, NMFS issued the Record of Decision (ROD) for the Final EIS. A Supplemental Information Report (SIR) that assesses the need to prepare a Supplemental EIS is being prepared for the final action. Copies of the Final EIS, ROD, and SIR for this action are available from NMFS (see ADDRESSES). The Final EIS analyzes the environmental consequences of the proposed groundfish harvest specifications and alternative harvest strategies on resources in the action area. The Final EIS found no significant environmental consequences from the proposed action or its alternatives.

NMFS prepared an Initial Regulatory Flexibility Analysis (IRFA) as required by section 603 of the Regulatory Flexibility Act (RFA), analyzing the methodology for establishing the relevant TACs. The IRFA evaluated the impacts on small entities of alternative harvest strategies for the groundfish fisheries in the EEZ off Alaska. As set forth in the methodology, TACs are set to a level that fall within the range of ABCs recommended by the SSC; the sum of the TACs must achieve the OY specified in the FMP. While the specific numbers that the methodology produces may vary from year to year, the methodology itself remains constant.

A description of the proposed action, why it is being considered, and the legal basis for this proposed action are contained in the preamble above. A copy of the analysis is available from NMFS (see ADDRESSES). A summary of the IRFA follows.

The action under consideration is a harvest strategy to govern the catch of groundfish in the GOA. The preferred alternative is the existing harvest strategy in which TACs fall within the range of ABCs recommended by the SSC. This action is taken in accordance with the FMP prepared by the Council pursuant to the Magnuson-Stevens Act.

The entities directly regulated by this action are those that harvest groundfish in the EEZ of the GOA and in parallel fisheries within State of Alaska waters. These include entities operating CVs and C/Ps within the action area and entities receiving direct allocations of groundfish.

The Small Business Administration has established size standards for all major industry sectors in the United States. A business primarily involved in finfish harvesting is classified as a small business if it is independently owned and operated, is not dominant in its field of operation (including its affiliates), and has combined annual gross receipts not in excess of $20.5 million, for all its affiliated operations worldwide. Fishing vessels are considered small entities if their total annual gross receipts, from all their activities combined, are less than $20.5 million. The IRFA estimates the number of harvesting vessels that are considered small entities, but these estimates may overstate the number of small entities because (1) some vessels may also be active as tender vessels in the salmon fishery, fish in areas other than Alaska and the West Coast, or generate revenue from other non-fishing sources; and (2) all affiliations are not taken into account, especially if the vessel has affiliations not tracked in available data (i.e., ownership of multiple vessel or affiliation with processors) and may be misclassified as a small entity.

The IRFA shows that, in 2014, there were 915 individual CVs with gross revenues less than or equal to $20.5 million. This estimate accounts for corporate affiliations among vessels, and for cooperative affiliations among fishing entities, since some of the fishing vessels operating in the GOA are members of AFA inshore pollock cooperatives, GOA rockfish cooperatives, or BSAI Crab Rationalization Program cooperatives. Therefore, under the RFA, it is the aggregate gross receipts of all participating members of the cooperative that must meet the “under $20.5 million” threshold. Vessels that participate in these cooperatives are considered to be large entities within the meaning of the RFA. After accounting for membership in these cooperatives, there are an estimated 915 small CV entities remaining in the GOA groundfish sector. This latter group of vessels had average gross revenues that varied by gear type. Average gross revenues for hook-and-line CVs, pot gear vessels, and trawl gear vessels are estimated to be $400,000, $740,000, and $2.5 million, respectively. Revenue data for the four C/Ps considered to be small entities are confidential.

The preferred alternative (Alternative 2) was compared to four other alternatives. Alternative 1 would have set TACs to generate fishing rates equal to the maximum permissible ABC (if the full TAC were harvested), unless the sum of TACs exceeded the GOA OY, in which case harvests would be limited to the OY. Alternative 3 would have set TACs to produce fishing rates equal to the most recent 5-year average fishing rate. Alternative 4 would have set TACs to equal the lower limit of the GOA OY range. Alternative 5, the “no action alternative,” would have set TACs equal to zero.

The TACs associated with the preferred harvest strategy are those adopted by the Council in October 2015, as per Alternative 2. OFLs and ABCs for the species were based on recommendations prepared by the Council's GOA Plan Team in September 2015, and reviewed by the Council's SSC in October 2015. The Council based its TAC recommendations on those of its AP, which were consistent with the SSC's OFL and ABC recommendations.

Alternative 1 selects harvest rates that would allow fishermen to harvest stocks at the level of ABCs, unless total harvests were constrained by the upper bound of the GOA OY of 800,000 mt. As shown in Table 1 of the preamble, the sum of ABCs in 2016 and 2017 would be 731,049 mt, which falls below the upper bound of the OY range. The sum of TACs is 590,161 mt, which is less than the sum of ABCs. In this instance, Alternative 1 is consistent with the preferred alternative (Alternative 2), meets the objectives of that action, and has small entity impacts that are equivalent to the preferred alternative. In some instances, the selection of Alternative 1 would not reflect the practical implications that increased TACs (where the sum of TACs equals the sum of ABCs) for some species probably would not be fully harvested. This could be due to a lack of commercial or market interest in such species. Additionally, an underharvest of some TACs could result due to constraints such as the fixed, and therefore constraining, PSC limits associated with the harvest of the GOA groundfish species.

Alternative 3 selects harvest rates based on the most recent 5 years of harvest rates (for species in Tiers 1 through 3) or for the most recent 5 years of harvests (for species in Tiers 4 through 6). This alternative is inconsistent with the objectives of this action, the Council's preferred harvest strategy, because it does not take account of the most recent biological information for this fishery. NMFS annually conducts at-sea stock surveys for different species, as well as statistical modeling, to estimate stock sizes and permissible harvest levels. Actual harvest rates or harvest amounts are a component of these estimates, but in and of themselves may not accurately portray stock sizes and conditions. Harvest rates are listed for each species category for each year in the SAFE report (see ADDRESSES).

Alternative 4 would lead to significantly lower harvests of all species and reduce the TACs from the upper end of the OY range in the GOA, to its lower end of 116,000 mt. Overall, this would reduce 2016 TACs by about 80 percent and would lead to significant reductions in harvests of species harvested by small entities. While reductions of this size would be associated with offsetting price increases, the size of these increases is very uncertain. There are close substitutes for GOA groundfish species available in significant quantities from the Bering Sea and Aleutian Islands management area. While production declines in the GOA would undoubtedly be associated with significant price increases in the GOA, these increases would still be constrained by production of substitutes, and are very unlikely to offset revenue declines from smaller production. Thus, this alternative would have a detrimental impact on small entities.

Alternative 5, which sets all harvests equal to zero, would have a significant adverse economic impact on small entities and would be contrary to obligations to achieve OY on a continuing basis, as mandated by the Magnuson-Stevens Act. Under Alternative 5, all 915 individual CVs impacted by this rule would have gross revenues of $0. Additionally, the four small C/Ps impacted by this rule also would have gross revenues of $0.

The proposed harvest specifications (Alternative 2) extend the current 2016 OFLs, ABCs, and TACs to 2016 and 2017. As noted in the IRFA, the Council may modify these OFLs, ABCs, and TACs in December 2015, when it reviews the November 2015 SAFE report from its Groundfish Plan Team, and the December 2015 Council meeting reports of its SSC and AP. Because 2016 TACs in the proposed 2016 and 2017 harvest specifications are unchanged from the 2016 TACs, NMFS does not expect adverse impacts on small entities. Also, NMFS does not expect any changes made by the Council in December 2015 to have significant adverse impacts on small entities.

This action does not modify recordkeeping or reporting requirements, or duplicate, overlap, or conflict with any Federal rules.

Adverse impacts on marine mammals or endangered species resulting from fishing activities conducted under this rule are discussed in the Final EIS and its accompanying annual SIRs (see ADDRESSES).

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: December 3, 2015.
Samuel D. Rauch III,
Deputy Assistant Administrator for Regulatory Programs, National Marine Fisheries Service.

[FR Doc. 2015-31002 Filed 12-7-15; 11:15 am]

BILLING CODE 3510-22-P